ENVIRONMENTAL PROTECTION AGENCY

[OPP-00722; FRL-6786-8]

Meeting on Consumer Awareness Program for Chromated Copper Arsenicals--Treated Wood; Notice of Public Meeting

AGENCY: Environmental Protection Agency (EPA).

ACTION: Notice of public meeting.

SUMMARY: EPA is announcing a June 7th meeting which will focus on the Consumer Awareness Program and a new proposed action plan developed by the Chromated Copper Arsenicals (CCA)-treated wood industry to strengthen dissemination of information regarding proper consumer use and handling precautions to all purchasers and users of CCA-treated wood products. This meeting is a follow-up to two meetings held on May 9, 2001, concerning the consumer awareness program for dissemination of information to consumers on the proper use and handling of CCA-treated wood products. The first meeting was between the Agency and public interest groups (Beyond Pesticides and Environmental Working Group), while representatives of the American Wood Preservers Institute, Home Depot, Lowe's, the National Lumber and Building Materials Dealers Association, and the manufacturers of CCA attended the second meeting. A representative from the University of Florida and the Florida Department of Agriculture were also in attendance at both meetings. The purpose of the May 9th meetings was to evaluate current efforts for informing the public about the safe use and handling of CCA-treated wood.

DATES: The meeting will be held on Thursday, June 7, 2001, from 9 a.m. to 11 a.m.

Requests to participate in the meeting must be received by EPA on or before June 6, 2001.

ADDRESSES: The meeting will be held at the Hilton Crystal City, 2399 Jefferson Davis Hwy., Arlington, VA.

Requests to participate in this meeting may be submitted by mail, electronically, or in person. Please follow the detailed instructions for each method as provided in Unit III. of the SUPPLEMENTARY INFORMATION.

FOR FURTHER INFORMATION CONTACT: Connie Welch, Chief, Regulatory Management Branch II, Antimicrobials Division, Office of Pesticide Programs (7510C), Environmental Protection Agency, 1200 Pennsylvania Ave., NW., Washington, DC 20460; telephone number: (703) 308-8218; e-mail address: welch.connie@epa.gov.

SUPPLEMENTARY INFORMATION:

I. Does this Notice Apply to Me?

This action is directed to the public in general. This action may, however, be of interest to all stakeholders interested in pressure-treated wood. Participants may include environmental/public interest and consumer groups; industry and trade associations; wood preservative users; Federal, State and local governments; and the general public. Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register--Environmental Documents.” You can also go directly to the Federal Register listings at http://www.epa.gov/fedrgstr/.

2. In person. The Agency has established an official record for this meeting under docket control number OPPTS-00722. The official record consists of the documents specifically referenced in this notice and other information related to the “Meetings on CCA-Treated Wood and the Consumer Awareness Program.” This record includes the documents that are physically located in the docket, as well as the documents that are referenced in those documents. The public version of the official record is available for inspection in the Public Information and Records Integrity Branch (PIRIB), Information Resources and Services Division, Office of Pesticide Programs (OPP), Environmental Protection Agency, Rm. 119, CM #2, 1921 Jefferson Davis Hwy., Arlington, VA. The PIRIB is open from 8:30 a.m. to 4 p.m., Monday through Friday, excluding legal holidays. The telephone number for the PIRIB is (703) 305-5805.

III. How Can I Request To Participate in this Meeting?

You may submit a request to participate in this meeting through the mail, in person, or electronically. Do not submit any information in your request that is considered CBI. Your request must be received by EPA on or before Wednesday, June 6, 2001. To ensure proper receipt by EPA, it is imperative that you identify docket control number OPPTS-00722 in the subject line on the first page of your request.

1. By mail. You may submit a written request to: Public Information and Records Integrity Branch (PIRIB), Information Resources and Services Division (7502C), Office of Pesticide Programs (OPP), Environmental Protection Agency, 1200 Pennsylvania Ave., NW., Washington, DC 20460.

2. In person or by courier. You may deliver a written request to: Public Information and Records Integrity Branch (PIRIB), Information Resources and Services Division, Office of Pesticide Programs (OPP), Environmental Protection Agency, Rm. 119, CM #2, 1921 Jefferson Davis Hwy., Arlington, VA. The PIRIB is open from 8:30 a.m. to 4 p.m., Monday through Friday, excluding legal holidays. The telephone number for the PIRIB is (703) 305-5805.

3. Electronically. You may submit your request electronically by e-mail to: “opp-docket@epa.gov”. Do not submit any information electronically that you consider to be CBI. Use Wordperfect 8.0 or ASCII file format and avoid the use of special characters and any form of encryption. All comments in electronic form must be identified by docket control number OPPTS-00722. You may also file a request online at many Federal Depository Libraries.

List of Subjects

Environmental protection, Pesticides.

Dated: May 23, 2001.
Frank Sanders,
Director, Antimicrobials Division, Office of Pesticide Programs.

[FR Doc. 01-13840 Filed 5-29-01 4:36 pm]

BILLING CODE 6560-50-S